DEPARTMENT OF ENERGY

Federal Energy Regulatory Commission

Notice of Application Tendered for Filing With the Commission, Soliciting Additional Study Requests, and Establishing Procedures for Relicensing and a Deadline for Submission of Final Amendments

July 3, 2001.

Take notice that the following hydroelectric application has been filed with the Commission and is available for public inspection. This filing may be viewed on the web at http://www.ferc.gov using the “RIMS” link, select “Docket #” from the RIMS Menu and follow the instructions (please call (202) 208-2222 for assistance).

a. Type of Application: New Major License.

b. Project No.: 2180-007.

c. Date Filed: June 26, 2001.

d. Applicant: PCA Hydro Inc.

e. Name of Project: Grandmother Falls Hydroelectric Project.

f. Location: On the Wisconsin River near the town of Bradley, Lincoln County, Wisconsin.

g. Filed Pursuant to: Federal Power Act 16 U.S.C. §§ 791(a)-825(r).

h. Applicant Contact: Mr. Kenneth Schultz, Packaging Company of America, N9090 County Road E, Tomahawk, Wisconsin 54481 (715) 453-2131 Ext. 499.

i. FERC Contact: Michael Spencer, michael.spencer@FERC.fed.us, (202) 219-2846.

j. Deadline for filing additional study requests: August 25, 2001.

All documents (original and eight copies) should be filed with: David P. Boergers, Secretary, Federal Energy Regulatory Commission, 888 First Street, NE., Washington, DC 20426. Comments, protests, interventions and additional study requests may be filed electronically via the Internet in lieu of paper. See, 18 CFR 385.2001(a)(1)(iii) and the instructions on the Commission's web site at http://www.ferc.gov under the link to the User's Guide. If you have not yet established an account, you will need to create a new account by clicking on “Login to File” and then “New User Account.”

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Grandmother Falls Project consists of: (1) A 450-foot-long gravity dam; (2) a 758-acre reservoir; (3) a powerhouse with a total installed capacity of 3,000-kilowatts and (4) appurtenant facilities. The applicant estimates that the average annual generation is 17,897 megawatthours.

m. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

n. With this notice, we are initiating consultation with the WISCONSIN STATE HISTORIC PRESERVATION OFFICER (SHPO), as required by § 106, National Historic Preservation Act, and the regulations of the Advisory Council on Historic Preservation, 36 CFR, at § 800.4.

o. Procedural schedule and final amendments: The application will be processed according to the following milestones, some of which may be combined to expedite processing:

Notice of application has been accepted for filing.

Notice of NEPA Scoping (unless scoping has already occurred).

Notice of application is ready for environmental analysis.

Notice of the availability of the draft NEPA document.

Notice of the availability of the final NEPA document.

Order issuing the Commission's decision on the application.

Final amendments to the application must be filed with the Commission no later than 30 days from the issuance date of the notice of ready for environmental analysis.

David P. Boergers,
Secretary.

[FR Doc. 01-17191 Filed 7-9-01; 8:45 am]

BILLING CODE 6717-01-P